DEPARTMENT OF ENERGY

Federal Energy Regulatory Commission

[Project No. 2210-175-VA]

Appalachian Power Company; Notice of Availability of Environmental Assessment

October 10, 2008.

In accordance with the National Environmental Policy Act of 1969 and the Federal Energy Regulatory Commission's regulations, 18 CFR part 380 (Order No. 486, 52 FR 47879), the Office of Energy Projects has reviewed Appalachian Power Company's proposed water withdraw for the Smith Mountain Hydroelectric Project, located on the Roanoke River in Bedford, Campbell, Franklin, and Pittsylvania Counties, Virginia and has prepared an Environmental Assessment (EA).

On May 27, 2008 Appalachian Power Company (licensee), filed an application with the Federal Energy Regulatory Commission (Commission) for non-project use of project lands and waters. The EA contains the staff's analysis of the potential environmental effects of the proposed project and concludes that approval of the Proposed Action, with appropriate environmental protective measures, would not constitute a major federal action that would significantly affect the quality of the human environment.

Copies of the EA are available for review in Public Reference Room 2-A of the Commission's offices at 888 First Street, NE., Washington, DC. The EA may also be viewed on the Commission's Web site at http://www.ferc.gov using the “eLibrary” link. Enter the docket number (P-2210) excluding the last three digits in the docket number field to access the document. For assistance, contact FERC Online Support at FERCOnlineSupport@ferc.gov or toll-free at 1-866-208-3676, or for TTY, (202) 502-8659.

Kimberly D. Bose,
Secretary.

[FR Doc. E8-24658 Filed 10-16-08; 8:45 am]

BILLING CODE 6717-01-P